DEPARTMENT OF DEFENSE

Department of the Air Force

Department of the Air Force Scientific Advisory Board; Notice of Federal Advisory Committee Meeting

AGENCY: Department of the Air Force Scientific Advisory Board, USAF.

ACTION: Notice of Federal advisory committee meeting.

SUMMARY: The Department of Defense (DoD) is publishing this notice in accordance with the Federal Advisory Committee Act to announce that the following meeting of the Department of the Air Force Scientific Advisory Board will take place.

DATES: Closed to the public. 30 March 2023 from 1:00 p.m.-4:45 p.m. and 31 March 2023 from 8:15 a.m. to 9:30 a.m. Central Time.

ADDRESSES: The meeting will be held at Eglin Air Force Base, 101 West D Avenue, Eglin AFB, FL 32542.

FOR FURTHER INFORMATION CONTACT: Lt Col Blythe Andrews, (240) 470-4566 (Voice), blythe.andrews@us.af.mil (Email). Mailing address is 1500 West Perimeter Road, Ste. #3300, Joint Base Andrews, MD 20762. Website: https://www.scientificadvisoryboard.af.mil/. The most up-to-date changes to the meeting agenda can be found on the website.

SUPPLEMENTARY INFORMATION: This meeting is being held under the provisions of chapter 10 of title 5, United States Code (as enacted on Dec. 27, 2022, by section 3(a) of Pub. L. 117-286) (formerly the Federal Advisory Committee Act, 5 U.S.C. appendix), section 552b of title 5, United States Code (popularly known as the Government in the Sunshine Act), and 41 CFR 102-3.140 and 102-3.150.

Purpose of the Meeting: The purpose of this meeting of the Department of the Air Force Scientific Advisory Board is to conduct mid-term reviews of the Department of the Air Force Scientific Advisory Board FY23 studies, offering board members the opportunity to hear directly from the Study Chairs on the progress they have made thus far and provide dedicated time to continue collaboration on research.

Agenda: [All times are Central Time] 30 March 2023: 1:00 p.m.-1:15 p.m. FY23 Study Remarks 1:15 p.m.-1:45 p.m. FY24 S&T Review Update 1:45 p.m.-2:30 p.m. Developmental and Operational Testing Brief 2:30 p.m.-2:45 p.m. Break 2:45 p.m.-3:30 p.m. Assessing Advanced Aerospace Mobility Concepts Brief 3:30 p.m.-4:15 p.m. Scalable Approaches to Resilient Air Operations Brief 4:15 p.m.-4:45 p.m. Closing Remarks. 31 March 2023: 8:15 a.m.-8:30 a.m. Opening Remarks 8:30 a.m.-9:15 a.m. Air and Surface Moving Target Indication Brief 9:15 a.m.-9:30 a.m. Closing Remarks In accordance with section 1009(d) of title 5, United States Code (formerly sec. 10(d) of the Federal Advisory Committee Act, 5 U.S.C. appendix) and 41 CFR 102-3.155, the Administrative Assistant of the Air Force, in consultation with the Air Force General Counsel, has agreed that the public interest requires this meeting of the United States Department of the Air Force Scientific Advisory Board be closed to the public because it will involve discussions involving classified matters covered by section 552b(c)(1) of title 5, United States Code.

Written Statements: Any member of the public wishing to provide input to the United States Department of the Air Force Scientific Advisory Board should submit a written statement in accordance with 41 CFR 102-3.140(c), section 1009(a)(3) of title 5, United States Code (formerly sec. 10(a)(3) of the Federal Advisory Committee Act), and the procedures described in this paragraph. Written statements can be submitted to the Designated Federal Officer at the address detailed above at any time. The Designated Federal Officer will review all submissions with the Department of the Air Force Scientific Advisory Board Chairperson and ensure they are provided to members of the Department of the Air Force Scientific Advisory Board. Written statements received after the meeting that is the subject of this notice may not be considered by the Scientific Advisory Board until the next scheduled meeting.

Tommy W. Lee,
Acting Air Force Federal Register Liaison Officer.

[FR Doc. 2023-05005 Filed 3-10-23; 8:45 am]

BILLING CODE 5001-10-P